ENVIRONMENTAL PROTECTION AGENCY

[OPP-2004-0365; FRL-7706-2]

Tributyltin Methacrylate; Product Cancellation Order; Correction

AGENCY: Environmental Protection Agency (EPA).

ACTION: Notice; correction.

SUMMARY: EPA issued a notice in the Federal Register of February 16, 2005, announcing the cancellation of a registration for a product containing tributyltin methacrylate, EPA Registration No. 44891-6. This notice announces an amendment to the February 16, 2005 notice and cancellation order to correct the effective date of the cancellation order.

FOR FURTHER INFORMATION CONTACT: Jill Bloom, Special Review and Reregistration Division (7508C), Office of Pesticide Programs, Environmental Protection Agency, 1200 Pennsylvania Ave., NW., Washington, DC 20460-0001; telephone number: 703 308-8019; fax number: 703 308-8041; e-mail address: bloom.jill@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0365. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Does this Correction Do?

The original cancellation order for EPA Registration No. 44891-6, an antifouling paint product containing tributyltin methacrylate, was published in the Federal Register on February 16, 2005 (70 FR 7941)(OPP-2004-0365; FRL-7699-6). Today's notice corrects the effective date of cancellation as stated in that notice consistent with the registrant's request for voluntary cancellation and to allow formulation of the registrant's last remaining technical material. The Agency received a March 7, 2005 request from the registrant seeking such correction. The effective date of the cancellation cited in the February 16, 2005 notice was the date of publication of that notice (or February 16, 2005); the corrected effective date of cancellation is December 1, 2005. The change in the effective date of the cancellation extends the period during which the registrant may formulate the product but does not increase the overall amount of TBT material that will be available to be used for formulation. The technical material that will be available to be used for formulation during this time period was all within the registrant's possession and control at the time the registrant requested voluntary cancellation. The correction does not affect the existing stocks provision set forth in the cancellation order and the February 16, 2005 notice. The registration affected by this correction and the effective date of cancellation are shown in the table below.

Registration Subject to Cancellation and Effective Date of Cancellation
EPA Registration | Product Name | Effective Date of Cancellation
44891-6 | Sea Hawk Biocop Antifouling Coating | December 1, 2005

The February 16, 2005 cancellation order is hereby corrected as follows:

On page 7941, in the second column, under DATES, the text should read: “The cancellation is effective December 1, 2005.”

On page 7942, in the first column, under Unit IV., in the first paragraph, the second sentence now reading “Accordingly, the Agency orders that the tributyltin methacrylate registration identified in the Table of Unit II is hereby canceled,” is corrected to read “Accordingly, the Agency orders that the tributyltin methacrylate registration identified in the Table of Unit II is canceled effective December 1, 2005.”

The existing stocks provisions remain as stated in the February 16, 2005 notice.

List of Subjects

Environmental protection, Pesticides and pests.

Dated: March 18, 2005.
Peter Caulkins,
Acting Director, Special Review and Reregistration Division, Office of Pesticide Programs.

[FR Doc. 05-6044 Filed 3-29-05; 8:45 am]

BILLING CODE 6560-50-S